FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 20, 2018.

A. Federal Reserve Bank of Kansas City (Dennis Denney, Assistant Vice President) 1 Memorial Drive, Kansas City, Missouri 64198-0001:

1. Ernest E. (Gene) Dillard, Sheila A. Dillard, and Aaron D. Dillard, all of Tulsa Oklahoma, and Sarah E. Dillard, Dallas, Texas; to acquire voting shares of First Pryor Bancorp, Inc., Pryor, Oklahoma, and thereby be approved as members of the Dillard family group, which owns voting shares of First Pryor Bancorp, Inc. and thereby indirectly owns First Pryority Bank, Pryor, Oklahoma, and Locust Grove Banshares, Inc., Locust Grove, Oklahoma, which owns Lakeside Bank of Salina, Salina, Oklahoma, and Bank of Locust Grove, Locust Grove, Oklahoma.

Board of Governors of the Federal Reserve System, July 31, 2018.
Yao-Chin Chao,
Assistant Secretary of the Board.

[FR Doc. 2018-16701 Filed 8-3-18; 8:45 am]

BILLING CODE P